DEPARTMENT OF TRANSPORTATION

Pipeline and Hazardous Materials Safety Administration

[Docket No. PHMSA-2014-0091]

Pipeline Safety: Government/Industry Pipeline Research and Development Forum

AGENCY: Pipeline and Hazardous Materials Safety Administration, DOT.

ACTION: Notice of public forum.

SUMMARY: The Pipeline and Hazardous Materials Safety Administration (PHMSA) and the National Association of Pipeline Safety Representatives periodically hold this public forum to generate a National research agenda that fosters solutions for the many challenges with pipeline safety and with protecting the environment. The forum allows public, government and industry pipeline stakeholders to develop a consensus on the technical gaps and challenges for future research. It also reduces duplication of programs, factors ongoing research efforts, leverages resources and broadens synergies. The national research agenda developed through this forum is aligned with the needs of the pipeline safety mission and makes use of the best available knowledge and expertise and considers stakeholder perspectives.

DATES: The public forum will be held on Wednesday, August 6, 2014, from 8:00 a.m. to 5:00 p.m. CDT and Thursday, August 7, 2014, from 8:00 a.m. to 4:30 p.m. CDT.

ADDRESSES: The event will be held at the Crowne Plaza Chicago O'Hare, 5440 North River Road, Rosemont, IL 60018. Hotel reservations can be made under the room block “DOT/PHMSA” at http://www.crowneplazaohare.com/ or by calling the hotel directly at 877-337-5793. A small room block is available at the Federal Government rate of $166/night for the nights of August 5, 6 and 7 on a first come, first served basis, and must be made by July 21, 2014.

Registration: Members of the public may attend this free public forum. To help assure that adequate space and accommodations are provided, all attendees are encouraged to register for the forum in advance at http://primis.phmsa.dot.gov/meetings/MtgHome.mtg?mtg=98. A name tag will be provided from your registration.

Web cast: This public forum will not be webcasted.

Information on Services for Individuals With Disabilities

For information on facilities or services for individuals with disabilities, or to request special assistance at the forum, please contact the Crowne Plaza at 877-337-5793 or Robert Smith, PHMSA, Office of Pipeline Safety, at 919-238-4759 or by email at robert.w.smith@dot.gov.

FOR FURTHER INFORMATION CONTACT: Robert Smith, PHMSA, Office of Pipeline Safety, at 919-238-4759 or by email at robert.w.smith@dot.gov, regarding the subject matter of this notice.

SUPPLEMENTARY INFORMATION: The details on this public forum including the times and agenda will be available on the meeting page http://primis.phmsa.dot.gov/meetings/MtgHome.mtg?mtg=98 as they become available. Presentation files will also be available on the meeting page within 14 days following the forum.

Authority: 49 CFR 1.97.

Issued in Washington, DC, on June 25, 2014.
Jeffrey D. Wiese,
Associate Administrator for Pipeline Safety.

[FR Doc. 2014-15307 Filed 6-30-14; 8:45 am]

BILLING CODE 4910-60-P